DEPARTMENT OF COMMERCE

National Oceanic and Atmospheric Administration

50 CFR Part 679

[I.D. 080900A]

RIN 0648-A028

Fisheries of the Exclusive Economic Zone Off Alaska; Rebuilding Overfished Fisheries

AGENCY: National Marine Fisheries Service (NMFS), National Oceanic and Atmospheric Administration (NOAA), Commerce.

ACTION: Approval of fishery management plan amendment.

SUMMARY: NMFS announces the approval of Amendment 15 to the Fishery Management Plan for Bering Sea/Aleutian Islands King and Tanner Crabs (FMP). This amendment is necessary to implement a plan to rebuild the overfished stock of St. Matthew blue king crab. This action is intended to ensure that conservation and management measures continue to be based on the best scientific information available and is intended to achieve, on a continuing basis, the optimum yield from the affected crab fisheries.

DATES: The amendment was approved on November 29, 2000.

ADDRESSES: Copies of Amendment 15 to the FMP, and the Environmental Assessment (EA) prepared for the amendment are available from the Sustainable Fisheries Division, Alaska Region, NMFS, P.O. Box 21668, Juneau, AK 99802-1668, Attn: Lori Gravel

FOR FURTHER INFORMATION CONTACT: Gretchen Harrington, 907-586-7228 or gretchen.harrington@noaa.gov.

SUPPLEMENTARY INFORMATION: NMFS declared the stock of St. Matthew blue king crab (Paralithodes platypus) overfished on September 24, 1999, because the spawning stock biomass was below the minimum stock size threshold as defined in the FMP. NMFS notified the North Pacific Fishery Management Council (Council) once NMFS determined that the stock was overfished (64 FR 54791, October 8, 1999). The Council developed a rebuilding plan within 1 year as required by the Magnuson-Stevens Fishery Conservation and Management Act (Magnuson-Stevens Act). In June 2000, the Council adopted Amendment 15, the rebuilding plan, to accomplish the purposes outlined in the national standard guidelines to rebuild the overfished stock. Amendment 15 specifies a time period for rebuilding the stock that satisfies the Magnuson-Stevens Act. The rebuilding plan is estimated to allow St. Matthew blue king crab to rebuild, with a 50 percent probability, within 10 years. The stock will be considered “rebuilt ” when the stock reaches the maximum sustainable yield stock size level in 2 consecutive years.

The rebuilding plan consists of a framework that references the State of Alaska’s harvest strategy, bycatch control measures, and habitat protection measures.

The rebuilding plan will use the harvest strategy developed by the Alaska Department of Fish and Game and adopted by the Alaska Board of Fisheries (Board). The FMP defers to the State of Alaska the authority to develop harvest strategies, with oversight by NMFS and the Council. The rebuilding harvest strategy should result in more spawning biomass, because more large male crab would be conserved and fewer juveniles and females would die due to incidental catch and discard mortality. This higher spawning biomass would be expected to produce good year-classes when environmental conditions are favorable.

The rebuilding plan also references the bycatch reduction measures and habitat protection measures adopted by the Board in March 2000. The Board adopted gear restrictions to reduce bycatch of sub-legal and female blue king crab in the directed fishery. To protect the habitat of egg-bearing females, the Board took action to close State waters around St. Matthew Island, Hall Island, and Pinnacles Island to crab fishing. Protection of habitat and reduction of bycatch will reduce mortality on juvenile and egg-bearing female crabs, thus allowing a higher percentage of each year-class to contribute to spawning and future landings.

An EA was prepared for Amendment 15 that describes the management background, the purpose and need for action, the management alternatives, and the environmental and the socio-economic impacts of the alternatives. A copy of the EA can be obtained from NMFS (see ADDRESSES).

A notice of availability for the proposed Amendment 15 to the FMP, which described the proposed amendment and invited comments from the public, was published in the Federal Register on August 29, 2000 (65 FR 52405). Comments were invited until October 30, 2000.

Response to Comments

NMFS received one public comment on Amendment 15.

Comment: The comment requested that NMFS include additional analysis in the EA, however, it did not recommend approval or disapproval of the amendment. The comment advanced these concerns about the EA: (1) the costs associated with monitoring bycatch of blue king crab in the trawl fishery were not analyzed; (2) the discussion of higher probabilities of rebuilding under alternative rebuilding scenarios is insufficient; and (3) further evaluation of the economic impacts of implementing a stricter rebuilding time and probability is needed.

Response: NMFS determined that the existing EA is sufficient for decision making, complies with applicable law, and additional analysis would not change the components of the rebuilding plan. The EA represents the best scientific information available, as certified by the Alaska Fisheries Science Center. For the following reasons, NMFS does not believe modification of the EA is warranted.

1. The decision not to enact measures to reduce bycatch of blue king crab in the trawl fisheries was based on the fact that, according to observer data, blue king crab is not a measurable component of trawl bycatch. Thus, an analysis of the costs associated with monitoring a bycatch limit or a closed area would not change the conclusion that trawl bycatch is not a significant source of blue king crab mortality.

2. The rebuilding time period satisfies the requirements of section 304(e)(4)(A) of the Magnuson-Stevens Act. The rebuilding plan is estimated to allow the St. Matthew blue king crab stock to rebuild, with a 50 percent probability, to the Bmsy level within 10 years. A 50 percent rebuilding probability within 10 years is the estimated probability recommended in the NMFS technical guidance for rebuilding overfished stocks. This probability of rebuilding includes the conservative parameter that stock will be considered ‘rebuilt’ when the stock size reaches the Bmsy in 2 consecutive years. The stock assessment experts that developed the model used to estimate the rebuilding times and probabilities determined that a 50 percent probability best represented reality given the biology of the species and our current level of scientific information. However, the EA also analyzes the alternatives at a 90 percent probability. The alternative that would achieve rebuilding at a 90 percent probability within 10 years is the no fishing alternative, which the EA analyzes. The exercise of estimating rebuilding probabilities provides managers an idea of the potential outcomes of different alternatives and to help assure that the chosen alternative will rebuild the stock within 10 years. One of the measures that predicts success of this rebuilding plan is that it is estimated to rebuild the stock in 12 years with a 90 percent probability. In other words, NMFS predicts that there is a 90 percent probability that the estimated spawning biomass will be above the Bmsy level of 22 million lb (9,679.2 metric tons) for 2 years within 12 years.

3. Information on the percentage of a crab catcher vessel’s total crab catch that is comprised of St. Matthew blue king crab is not substantially relevant to the decision making. The comment implies that this information would lead to a more conservative rebuilding plan because most catcher vessels do not depend on this fishery as a sole source of income. The rebuilding harvest strategy provides a balance between being sufficiently conservative to rebuild the stock and prevent overfishing, yet to allow some fishing during the rebuilding period once the stock increases in abundance to above the MSST. A fishery will occur when the stock abundance warrants it, regardless of each individual vessel’s other sources of income.

NMFS determined that Amendment 15 to the FMP is consistent with the Magnuson-Stevens Act and other applicable laws and approved Amendment 15 on November 29, 2000. Additional information on this action is contained in the August 29, 2000, notice of availability (65 FR 52405).

No regulatory changes are necessary to implement this FMP amendment.

Dated: November 30, 2000.
Clarence Pautzke,
Director, Office of Sustainable Fisheries, National Marine Fisheries Service.

[FR Doc. 00-31033 Filed 12-5-00; 8:45 am]

BILLING CODE 3510-22-S